DEPARTMENT OF THE INTERIOR

Bureau of Land Management

[CACA-048880, LLCAD060000, L51010000.FX0000, LVRWB09B2520]

Notice of Availability of the Record of Decision for the Genesis Solar Energy Project and Amendment to the California Desert Conservation Area Resource Management Plan, Riverside County, CA

AGENCY: Bureau of Land Management, Interior.

ACTION: Notice of availability.

SUMMARY: The Bureau of Land Management (BLM) announces the availability of the Record of Decision (ROD)/Approved Amendment to the California Desert Conservation Area (CDCA) Plan, the applicable Resource Management Plan (RMP) for the project site and the surrounding areas, located in the California Desert District. The Secretary of the Interior approved the ROD on November 4, 2010, which constitutes the final decision of the Department.

ADDRESSES: Copies of the ROD/Approved Amendment to the CDCA Plan are available upon request from the Field Manager, Palm Springs-South Coast Field Office, Bureau of Land Management, 1201 Bird Center Drive, Palm Springs, California 92262 or via the Internet at the following Web site: http://www.blm.gov/ca/st/en/fo/palmsprings.html.

FOR FURTHER INFORMATION CONTACT: Allison Shaffer, BLM Project Manager; telephone: (760) 833-7100; mailing address: 1201 Bird Center Drive, Palm Springs, California 92262; or e-mail: CAPSSolarNextEraFPL@blm.gov.

SUPPLEMENTARY INFORMATION: Genesis Solar, LLC, a wholly owned subsidiary of NextEra Energy Resources, filed right-of-way (ROW) application CACA-048880 for the proposed Genesis Solar Energy Project (GSEP). The GSEP is a concentrated solar electrical generating facility using parabolic trough technology and facilities. The GSEP site is proposed on approximately 1,950 acres of BLM-managed lands in Riverside County, California, approximately 27 miles east of the unincorporated community of Desert Center and 25 miles west of the Arizona-California border city of Blythe. The GSEP consists of 2 independent solar electric generating facilities with a net electrical output of 125 megawatts (MW) each, resulting in a total net electrical output of 250 MW. In addition to the site, the project includes a distribution line, an electrical transmission line, fiber optic lines, a natural gas pipeline, and an access road. A double circuit 230-kilovolt (kV) transmission line will be constructed to connect to the Southern California Edison Colorado River substation via the existing Blythe Energy Project Transmission Line between the Julian Hinds and Buck substations. The linear facilities will encumber approximately 90 acres offsite.

The project site is in the California Desert District within the planning boundary of the CDCA Plan, which is the applicable RMP for the project site and the surrounding areas. The CDCA Plan, while recognizing the potential compatibility of solar generation facilities on public lands, requires that all sites associated with power generation or transmission not already identified in that Plan be considered through the BLM's land use plan amendment process. As a result, prior to approval of a ROW grant for the GSEP, the BLM must amend the CDCA Plan to allow the solar generating project on that site. The approved Amendment to the CDCA Plan specifically revises the CDCA Plan to allow for the development of the GSEP and ancillary facilities on land managed by the BLM.

The BLM preferred alternative would result in the building of 2 adjacent and independent power block units, capable of generating approximately 250 MW of electricity, and the use of dry cooling technology, as well as all associated ancillary facilities. This 250 MW alternative was evaluated in the Final Environmental Impact Statement (EIS). The Notice of Availability of the Final EIS for the GSEP and the proposed CDCA Plan amendment was published in the Federal Register on August 27, 2010 (75 FR 52736).

Publication of the Notice of Availability for the Final EIS initiated a 30-day protest period for the proposed amendment to the CDCA Plan and a 30-day comment period on the Final EIS. At the close of the 30-day period on September 27, 2010, 3 timely and complete written protests were received and resolved. Their resolution is summarized in the Director's Protest Summary Report attached to the ROD. The proposed amendment to the CDCA Plan was not modified as a result of the protest resolution. In addition, the BLM received 10 comment letters on the Final EIS. The BLM's responses to these comments are provided in Appendix 1 of the ROD. Simultaneously with the protest period, the Governor of California conducted a 30-day consistency review of the proposed CDCA Plan amendment to identify any inconsistencies with the state or local plan, policies, or programs. The California Governor's office did not identify inconsistencies between the proposed amendment to the CDCA Plan and state or local plan, policies, or programs.

Because this decision is approved by the Secretary of the Interior, it is not subject to administrative appeal (43 CFR 4.410(a)(3)).

Authority: 40 CFR 1506.6.

Robert V. Abbey,
Director, Bureau of Land Management.

[FR Doc. 2010-28434 Filed 11-10-10; 8:45 am]

BILLING CODE 4310-40-P